DEPARTMENT OF AGRICULTURE

Agricultural Marketing Service

[Doc. No. AMS-ST-24-0017]

Notice of Request for Extension and Revision of a Currently Approved Information Collection

AGENCY: Agricultural Marketing Service, USDA.

ACTION: Notice and request for comments.

SUMMARY: In accordance with the Paperwork Reduction Act of 1995, this notice announces the Agricultural Marketing Service's (AMS) intention to request approval, from the Office of Management and Budget (OMB), for an extension of and revision to the currently approved information collection “Laboratory Approval and Testing Division.”

DATES: Comments on this notice must be received by June 24, 2024 to be assured of consideration.

ADDRESSES: Interested persons are invited to submit comments concerning this notice by using the electronic process available at https://www.regulations.gov/. All comments should reference the document number and the date and page number of this issue of the Federal Register. All comments submitted in response to this notice will be posted without change, including any personal information provided, at https://www.regulations.gov/ and will be included in the record and made available to the public.

FOR FURTHER INFORMATION CONTACT: Director (Kerry Smith), Laboratory Approval and Testing Division, Science & Technology Program, Agricultural Marketing Service, U.S. Department of Agriculture, 1400 Independence Avenue SW, Room 2912-S, Washington, DC 20250-0272; Phone: (202) 690-4089; or Email: LAS@usda.gov.

SUPPLEMENTARY INFORMATION:

Agency: USDA, AMS.

Title: Laboratory Approval and Testing Division.

OMB Number: 0581-0251.

Type of Request: Extension and revision of a currently approved information collection.

Abstract: Under the Agricultural Marketing Act of 1946, as amended (7 U.S.C. 1621-1627), AMS' Laboratory Approval and Testing Division (LATD) provides laboratory testing and approval services to facilitate domestic and international marketing of food and agricultural commodities. The authority for implementing LATD programs appear in regulation 7 CFR part 91.

AMS' Laboratory Approval Service (LAS) approves, or accredits, laboratories to perform testing services in support of domestic and international trade. At the request of industry, other Federal agencies, or foreign governments, AMS develops and administers laboratory approval programs (LAPs) to verify that the analysis of food and agricultural products meet country or customer-specified requirements. LAS ensures the testing of products marketed is conducted by qualified and approved laboratories. Laboratory approval program requirements include good laboratory, quality assurance and control practices; applicable domestic and international standards (such as ISO/IEC 17025); established methods and accepted equipment; and on-site audits. Laboratories voluntarily participate in LAPs and pay program fees.

AMS' National Science Laboratories (NSL) provides chemical, microbiological, and bio-molecular lab analytical testing services to facilitate domestic and international marketing of food and agricultural commodities. NSL provides testing services for AMS commodity programs, other USDA agencies, Federal and State agencies, US Military, research institutions, and private sector food and agricultural industries. Applicants voluntarily submit samples for analytical testing and pay testing fees.

The information collection outlines essential information needed about a customer/business for collecting payment for AMS services; evaluating laboratories for compliance to LAP requirements; and submitting samples for laboratory testing. Only authorized representatives of AMS have access to information provided on the forms.

AMS needs to collect customer business information on form ST-1, Application for Service. The information includes business legal name, Federal Tax ID Number, mailing address, billing address, primary and accounts payable contact, and is used to establish an account and deliver communications for collection of service fees.

AMS needs to collect information from customers for the application process and subsequent evaluations for continued participation for voluntary participation in a LAP. The greatest information collection burden is during the application process, a one-time event, which includes request for service and documented policies, procedures, and records as evidence of compliance to the LAP requirements. Once an applicant is approved into the program, the information collection burden decreases for a participant's continued participation which includes intent to continue participation, records as evidence of ongoing compliance in-between audits (e.g., surveillance), and documented policies, procedures, and records for audits. Occasionally, a participant's scope of approval is reduced, or the participant exits the program. When this happens information about the participant's request is collected. This information is essential to determine fees for service and evaluate the participant's ability to meet the LAP requirements.

AMS needs to collect information about the sample and type of testing requested to conduct voluntary analytical laboratory testing. This information can be submitted by the applicant using their internal format or on form ST-2, National Science Laboratories Sample Submission Form or ST-3, National Science Laboratories Sample Submission Form—Hemp. Such information includes applicant contact information; sample description; sample identifier/lot number, number of items; analyses requested; and inclusions needed on the analytical certificate/report of results.

Estimate of Burden: Public reporting burden for this collection of information is estimated to average 0.50 hours per response.

Respondents: Food and Agricultural Businesses.

Estimated Number of Respondents: 3620.00.

Estimated Total Annual Responses: 4059.00.

Estimated Number of Responses per Respondent: 1.12.

Estimated Total Annual Burden on Respondents: 2023.70 hours.

Comments: Comments are invited on: (1) whether the proposed collection of information is necessary for the proper performance of the functions of the agency, including whether the information will have practical utility; (2) the accuracy of the agency's estimate of the burden of the proposed collection of information including completion of analyses related documentation; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Melissa Bailey,
Associate Administrator, Agricultural Marketing Service.

[FR Doc. 2024-08887 Filed 4-24-24; 8:45 am]

BILLING CODE P